ENVIRONMENTAL PROTECTION AGENCY

[FRL-7824-4]

Proposed Fourth Administrative Cashout Settlement Under Section 122(g) of the Comprehensive Environmental Response, Compensation, and Liability Act; in Re: Beede Waste Oil Superfund Site, Plaistow, NH

AGENCY: Environmental Protection Agency.

ACTION: Notice of proposed fourth administrative settlement and request for public comment.

SUMMARY: In accordance with Section 122(i) of the Comprehensive Environmental Response, Compensation, and Liability Act, as amended, 42 U.S.C. 9622(i), notice is hereby given of a proposed fourth administrative settlement for recovery of past and projected future response costs concerning the Beede Waste Oil Superfund Site in Plaistow, New Hampshire with the settling parties listed in the Supplementary Information portion of this notice. The U.S. Environmental Protection Agency—Region I (“EPA”) is proposing to enter into a fourth de minimis settlement agreement to address claims under the Comprehensive Environmental Response, Compensation, and Liability Act of 1980, as amended (“CERCLA”), 42 U.S.C. 9601 et seq. Notice is being published to inform the public of the proposed fourth settlement and of the opportunity to comment. This fourth settlement, embodied in a CERCLA section 122(g) Administrative Order on Consent (“AOC”), is designed to resolve each settling party's liability at the Site for past work, past response costs and specified future work and response costs through covenants under sections 106 and 107 of CERCLA, 42 U.S.C. 9606 and 9607, as well as to resolve each such settling party's liability at the Site for past response costs and estimated future response costs by the State of New Hampshire, through its Department of Environmental Services. The proposed AOC requires the settling parties listed in the Supplementary Information section below to pay an aggregate total of approximately $10,736,723.91. For thirty (30) days following the date of publication of this notice, the EPA will receive written comments relating to the settlement. The EPA will consider all comments received and may modify or withdraw its consent to the settlement if comments received disclose facts or considerations which indicate that the settlement is inappropriate, improper, or inadequate. The EPA's response to any comments received will be available for public inspection at the EPA Records Center, 1 Congress Street, Boston, MA 02114-2023 (Telephone Number: 617-918-1440) and at the Plaistow Public Library, 85 Main Street, Plaistow, NH (Telephone Number: 603-382-6011).

DATES: Comments must be submitted on or before November 4, 2004.

ADDRESSES: The proposed fourth settlement is available for public inspection at the EPA Records Center, 1 Congress Street, Boston, MA 02114-2023 and at the Plaistow Public Library, 85 Main Street, Plaistow, NH (Telephone Number: 603-382-6011). Please call 617-918-1440 to schedule an appointment. A copy of the proposed fourth settlement may be obtained from Kristin Balzano, U.S. Environmental Protection Agency, Region I, 1 Congress Street, Suite 1100 (SES), Boston, MA 02114-2023 (Telephone Number: 617-918-1772). Comments should reference the Beede Waste Oil Superfund Site in Plaistow, New Hampshire and EPA Docket No. CERCLA-01-2004-0012 and should be addressed to Kristin Balzano, U.S. Environmental Protection Agency, Region I, 1 Congress Street, Suite 1100 (SES), Boston, MA 02114-2023.

FOR FURTHER INFORMATION CONTACT: Cindy Lewis, U.S. Environmental Protection Agency, Region I, 1 Congress Street, Suite 1100 (SES), Boston, MA 02114-2023 (Telephone Number: 617-918-1889).

SUPPLEMENTARY INFORMATION: This section contains a list of the approximately 276 settling parties. Each party name is listed as it appears on the current EPA list of potentially responsible parties (PRPs) and many of the names are followed by a parenthetical which refers to the name of the party listed on the AOC signature page. The following is a list of the settling parties, including settling federal agencies, to the proposed fourth settlement: 67 Smith Place Corporation, A & C Tire Company, Inc., A & O Service Center, Inc., A. Neal Perley d/b/a Perley's Marina, Acton Tire Inc., Advisory Realty Corporation, Agri-Mark, Inc., Alcatel (Alcatel Vacuum Products), Alvin Hollis and Company, Inc., American Eagle Tours, Inc., American Medical Response of Massachusetts, Inc., Amesbury Coach Inc., Amesbury Group Inc., AMI Leasing (Trucklease Corporation d/b/a AMI Leasing), Antoine's Auto Repair, Inc., Aquacultural Research Corporation, Ashland Motors, Inc., Atamian Volkswagen Inc. d/b/a Atamian Honda, Atlantic Waste Systems North (Wood Recycling, Inc.), Auto Service & Tire, Inc., Auto West, Automotive Consultants, Inc., Ayotte Plumbing Heating and Air Conditioning, B & B Auto Clinic, Inc., Bailey Distributing Corporation (Yeliab Corporation, Successor), Ballard Motor Sales Inc. (Ballard Mack Sales & Service Inc.), Bancroft Tire Center (H. Glick & Son's, Inc.), Bennett Service Station, Inc., Bert Libon Inc., BMW Gallery, Bob Innis and Son, Inc., Bob's Auto Repair Inc. (Bob's Auto Repair LLC), Bob's Auto Service, Boott Mills Hydro (Boott Hydropower, Inc.), Boston Harbor Cruises, Inc. (Harbor Cruises, LLC d/b/a Boston Harbor Cruises), Boston Public Health Commission, Boston Sand & Gravel Company, Bourne Bridge Auto Sales Inc. d/b/a Hyannis Saab, Bridge Marina, Inc., Bridgestone/Firestone North American Tire, LLC, Brownie's Swan Street Garage, Browning-Ferris Industries (BFI Waste Services of Massachusetts, LLC), Burlington Dodge, Inc., Bursaw Oil Corporation, C W Equipment Company Inc., C. N. Wood Company, Inc., CDST Corporation d/b/a Quality Lube & Wash, Champy's Service Tire & Supply Inc., Chets Auto Repair, Chrysler Plymouth of Medford, Inc. (n/k/a Grava of Medford, Inc.), Chuckran Auto Parts Inc., Cinderella Carriage Company, Inc., City of Lawrence, Massachusetts, City of Lynn, Massachusetts, City of Methuen, Massachusetts, City of Newburyport, Massachusetts, City of Newton, Massachusetts, CJ 3A Service & Repair Inc. (d/b/a CJ Auto Repair), Clark & Reid Company, Inc., Coast Pontiac-Cadillac, Inc., Computron Metal Products, Inc., Connolly Buick Company, Inc. (500 Enterprises, Inc. d/b/a Herb Connolly Acura of Framingham), Consumer Auto Parts, Inc., Copeland's Automotive, Coppola Inc., Cote & Sons Automotive Center, Inc., Cox Fuel Company, Inc., Coyne International Enterprises Corporation (d/b/a Coyne Textile Services), Cyndan Inc. d/b/a Speedway Lube & Tube, D.N. Kelley & Son, Inc., Daley & Wanzer, Inc., Daniels LeSaffre Motors, Inc., Dave's Enterprises, Inc., Davidson Chevrolet Company, Inc. (d/b/a Davidson Chevrolet-Oldsmobile), DeLucca Fence Company, Inc., Denison Pharmaceuticals, Inc., Derry Cooperative School District, Dick Industrial Inc., Dobles Chevrolet (Dobles Chevrolet Buick, Inc.), Donald J. Michaud d/b/a Auto Care, Donna Lou Enterprises, Inc. (d/b/a Dobbins Auto Repair), Downeast Dispatch, Inc., Dreher-Holloway, Inc., Drum Hill Ford Inc., Dunk's Automotive Service, Eagle-Tribune Publishing Company, Eastern Lumber Company, Inc., Eastern Transmission Service, Edward T. Neal (d/b/a Neal's Automotive Repair), Edwards Buick (Edward Buick-GMC Truck, Inc.), Erickson Fuel Company, Inc., Ernest Service Center, Excel Auto Unlimited Inc., Federal Express Corporation (Flying Tiger Line, Inc.), Fitchburg Gas & Electric Light Company, Foreign Auto Doctor, Foreign Cars of Belmont Inc. d/b/a Belmont Volkswagen, Framingham Auto Sales Inc. (Framingham Ford d/b/a Framingham Auto Sales, Inc.), Fred's Auto Service, Friction Materials, Inc., Gallo Construction Company, Inc., Gary W. Blake, Inc., Gaston Andre Associates, Inc. (d/b/a Charles River Saab), General Cable Industries, Inc. (Carol Cable Company, Inc.), Genuity (GLT Liquidating Trust, successor to Genuity Inc., Genuity Solutions, Inc., & Genuity Telecom Inc. et al), George Luddy Chevrolet, Inc., George R. Cairns & Sons, Inc., Georgetown Service Station, Inc. d/b/a Georgetown Citgo, Global Petroleum Corporation, Greater Lawrence Regional Vocational Technical High School District, Greater Lowell Regional Vocational Technical School District, Grove Products, Inc., Gullwing Service Company, Inc. d/b/a Paul Russell & Company, Gurney's Service Station, Inc., H. Wright's Service, Inc., Hamilton-Wenham Regional School District, Harry's Auto Repair, Henry's Sunoco Inc., Holden Oil Inc., Honda Village, Inc., Hydramatic Sales & Service Corporation, Hyster New England Inc. (f/k/a Lewis & Boyle Company), Ideal Transportation Company, Inc., Interstate Electrical Services Corporation, Ipswich Ford Inc., Ipswich Shellfish Company, Inc., Irwin Motors Inc., J.G. MacLellan Concrete Company Inc., James W. Flett Company, Inc., Jannell Motors Inc., Jerry's Auto Service Inc., JF White Contractor, Jim's American, JLJ Enterprises, Inc., John C. Bell, Inc. d/b/a New Meadows Auto Repair, Joseph A. Noujaim d/b/a Byblos Mercedes Clinic, Kelley's Service Station, Kelly's Tire Mart Inc., Ken's Auto Repair Inc., Ken's Haus, Inc., Kriswood, Inc., L & R Services Inc., Lawrence Boys & Girls Club, Lawrence HydroElectric (Lawrence Hydroelectric Associates), Lily Transportation Corporation (f/k/a Lily Truck Leasing Corporation and LTL Inc.), Lindberg Heat Treating Company (n/k/a Bodycote Thermal Processing, Inc.), Longhorn Inc. of Lawrence, Louis Pasqualucci & Son, Inc., Lynn Screw Corporation, M H R Auto Body Inc. (d/b/a River Street Auto Body & Collision), Mabardy's Gulf Service, Maestranzi Bros Inc., Manchester Mack Sales Inc. (McDevitt Trucks, Inc.), Marshall E. Merrill Jr., Martel Automotive Service, Massachusetts Bay Transportation Authority, Massachusetts Department of Correction, Massachusetts Institute of Technology, McDevitt Machinery, Inc. (McDevitt Trucks, Inc.), McLaughlin Chevrolet Inc., Medway Auto Sales Inc., Menard & Holmberg, Inc., Merrimack Valley Tire Inc., Metcalf & Eddy Services Inc., Michael's Motor Sales Inc., Michaud's Garage, Midas International Corporation/Cape Auto Systems (Cosmic Enterprises, Inc.; Cape Auto Systems, Inc.), Midway Garage Inc. d/b/a Midway Auto Imports Inc., Mihold, Inc. d/b/a Raynham Midas Muffler and Brake Shop, Mirra Company Inc., MKK Enterprises Inc. d/b/a Mike's Quicklube & Quality Car Care, Montachusett Regional Transit Authority, Moody St. Mobil, Inc., Mutual Oil Company, Inc., Nashua Industrial Machine (Ultima Nashua Industrial Machine Corporation), New England Frozen Foods, Inc., (f/k/a Hendrie's Frozen Foods, Inc.), New England Tank Company, New Hampshire Department of Environmental Services, North Andover Texaco Inc., Norwood Automobile Company d/b/a Cadillac of Norwood, Nuri Asmar d/b/a Chandler Value, O.F. Welker, Inc. d/b/a Welker's 16 Acres Mobil, Oakland Avenue Garage, Old Colony Motors Inc., Olson's Greenhouses Inc., Owens-Illinois Inc., Palmer Automotive (Palmer's Automotive Service), Park Avenue Citgo, Parkway Texaco (Parkway Automotive), Pearl Street Motors, Inc., Perkins School for the Blind, Peters Auto Sales Inc., Petroleum Heat & Power Company, Inc., Pica's Automotive Services, Inc., Plymouth County Sheriffs Department, Porter Chevrolet Inc., Portside Marine Service Inc., Praxair, Inc., Precision Auto Repair, Inc., Precision Wire Shapes, Public Service of New Hampshire, Quality Controls Inc., R Zambino & Sons Inc. (Rocco Zambino & Sons, Inc.), R.L. Buzzell, Inc., Raymers Express, Inc., Reimel's Automotive Specialist, Rockingham Toyota Dodge Nissan, Inc., Rods Auto Care, Rolling Green Service Center, Inc., Romie's Auto Repair, Inc., Route 114 Mobil Inc. (Rte 114 Mobil), S J McNeilly Oldsmobile Inc., Saint-Gobain Corporation (Bird, Inc. predecessor of Saint-Gobain Corporation), Salter Transportation, Inc., Sam's Service Inc., Sanders & Lockheed Martin Company (BAE SYSTEMS Information and Electronic Systems Integration Inc.), Scooby's Truck Sales, Seabrook Tire & Auto Inc., SEMASS Partnership LP, Sentry Lincoln Mercury Sales, Inc., Sloban Auto Body Inc., Southworth-Milton, Inc., Stoneham Motor Company, Inc., Streeter Plumbing & Heating Inc., Stutz Motor Car Company Inc., Subaru of Milford, Inc., Subaru of Wakefield, Inc., Sunnyside Motor Company Inc., Sunoco, Inc. (R & M), Suns Total Systems, Inc., Supervalu Holdings, Inc. (Supervalu Inc. and its wholly owned subsidiary Supervalu Holdings, Inc.), Talarico Chevrolet-Geo-Pontiac, Inc., Terzakis Brothers, Inc., The Bracken Company, Inc., The Federal Corporation, The Goodyear Tire and Rubber Company, The Lane Construction Corporation, The Middlesex Corporation and Middlesex Paving Corporation, Thompson Oil Company Inc., Three-C Electrical Company Inc., Tichon Lincoln Mercury Corporation, Tom's Auto Service, Inc., Toupin Rigging Company, Inc., Town of Amesbury, Massachusetts, Town of Barnstable, Massachusetts, Town of Carlisle, Massachusetts, Town of Chelmsford, Massachusetts, Town of Danvers, Massachusetts, Town of Dennis, Massachusetts, Town of East Bridgewater, Massachusetts, Town of Harvard, Massachusetts, Town of Hingham, Massachusetts, Town of Lynnfield, Massachusetts, Town of Needham, Massachusetts, Town of Norfolk, Massachusetts, Town of North Andover, Massachusetts, Town of Pepperell, Massachusetts, Town of Wellesley, Massachusetts, Transgas Inc., Tremont Nail Company, Trombly Brothers Inc., Trustees of Boston College, Unisorb, Inc., United States Army Corps of Engineers, United States Coast Guard, United States General Services Administration—New England Region, Valley Design Corporation, Vendetti Motors Inc., Weber Auto and Truck Parts, Inc., Wentworth Motor Company, Inc., Wesson's Mobil, West Lynn Creamery, Inc. (Dean Northeast, LLC, successor by merger to West Lynn Creamery, Inc.), Weymouth Motor Sales Inc., White Equipment Leasing Corporation, Whittier Regional Vocational Technical High School, and William Phillips Automotive (Phillips Automotive).

In accordance with the Comprehensive Environmental Response, Compensation, and Liability Act of 1980, as amended, 42 U.S.C. 9601 et seq., notice is hereby given of a proposed fourth de minimis settlement agreement under section 122(g) of CERCLA concerning the Beede Waste Oil Superfund Site in Plaistow, NH. The fourth settlement was approved by EPA Region I, subject to review by the public pursuant to this Notice.

The proposed fourth settlement has been approved by the United States Department of Justice and, for the State portion of the settlement, by the State of New Hampshire. EPA will receive written comments relating to this settlement for thirty (30) days from the date of publication of this Notice.

Dated: September 27, 2004.
Susan Studlien,
Director, Office of Site Remediation and Restoration, EPA—Region I.

[FR Doc. 04-22362 Filed 10-4-04; 8:45 am]

BILLING CODE 6560-50-P